DEPARTMENT OF THE INTERIOR

Minerals Management Service

Environmental Documents Prepared for Proposed Oil and Gas Operations on the Gulf of Mexico Outer Continental Shelf (OCS)

AGENCY: Minerals Management Service, Interior.

ACTION: Notice of the availability of environmental documents prepared for OCS Mineral Proposals on the Gulf of Mexico OCS.

SUMMARY: The Minerals Management Service (MMS), in accordance with Federal Regulations (40 CFR 1501.4 and 1506.6) that implement the National Environmental Policy Act (NEPA), announces the availability of NEPA-related Site-Specific Environmental Assessments (SEA's) and Findings of No Significant Impact (FONSI's), prepared by the MMS for the following oil and gas activities proposed on the Gulf of Mexico OCS. This listing includes all proposals for which the FONSI's were prepared by the Gulf of Mexico OCS Region in the period subsequent to publication of the preceding notice.

Activity/operator | Location | Date
BHP Petroleum (GOM) Inc., Exploration Activity, SEA No. N-6626 | Walker Ridge Area, Blocks 425 and 469, Lease OCS-G 16987 and 16997, 146 miles from the nearest Louisiana shoreline | 02/03/00
Coastal Oil and Gas Corporation, Exploration Activity, SEA No. N-6640 | High Island Area, East Addition, South Extension, Block A-367, Lease OCS-G 15820, 118 miles from the nearest Louisiana shoreline | 02/29/00
Apache Corporation, Exploration Activity, SEA No. S-5175 | South Pass Area, Block 62, Lease OCS-G 1294, 18 miles south of Venice, Louisiana | 04/12/00
Vastar Resoures, Inc., Pipeline Activity, SEA No. P-12395 (G-21475) | Main Pass Area, South and East Addition, Blocks 264, 263, and 280, Lease OCS-G 21475, 70 miles off the coast of Alabama | 02/02/00
Unocal Corporation, Structure Removal Operations, SEA No. ES/SR 93-143A | Main Pass Area, Block 254, Lease OCS-G 5055, 60 miles from Baldwin County, Alabama | 04/06/00
Exxon Mobil Production Company, Structure Removal Operations, SEA No. ES/SR 00-001 | Grand Isle Area, Block 23, Lease OCS-G 0034, 7 miles southeast of Lafourche Parish, Louisiana | 01/28/00
EEX Corporation, Structure Removal Operations, SEA No. ES/SR 00-002 | Garden Banks Area, Block 387, Lease OCS-G 7485, 129 miles south of Vermilion Parish, Louisiana | 01/18/00
Samedan Oil Corporation, Structure Removal Operations, SEA Nos. ES/SR 00-003 and 00-004 | High Island Area, Block A-549, Lease OCS-G 12584; East Cameron Area, Block 311, Lease OCS-G 6646; 93 to 98 miles from the nearest Louisiana shoreline | 01/31/00
Houston Exploration Company, Structure Removal Operations, SEA No. ES/SR 00-005 | Mustang Island Area, Block 738, Lease OCS-G 11214, 26 miles southeast of Aransas County, Texas | 02/04/00
Chevron U.S.A., Production Company, Structure Removal Activity, SEA No. ES/SR 00-006 | Main Pass Area, Block 132, Lease OCS-G 2949, 25 miles east of Plaquemines Parish, Louisiana | 02/09/00
CXY Energy Inc., Structure Removal Activity, SEA No. ES/SR 00-007 | Main Pass Area, Block 262, Lease OCS-G 15390, 51 miles east of Plaquemines Parish, Louisiana | 03/01/00
Energy Resources Technology, Inc., Structure Removal Activity, SEA No. ES/SR 00-008 | East Cameron Area, Block 223, Lease OCS-G 10632, 67 miles south of Cameron Parish, Louisiana | 03/01/00
Newfield Exploration Company, Structure Removal Activity, EA Nos. ES/SR 00-009, through 00-13 | Eugene Island Area, Block 199, Lease OCS-G 0437; West Cameron Area, Blocks 401 and 421, Leases OCS-G 5322 and 7619; 48 to 70 miles off the Louisiana coast | 03/14/00
Chevron U.S.A. Production Company, Structure Removal Activity, SEA Nos. ES/SR 00-014 through 00-016 | Grand Isle Area, Blocks 26 and 37, Leases OCS-G 0392 and 0390, 6 to 7 miles off the Louisiana coast | 03/10/00
Torch Operating Company, Structure Removal Activity, SEA No. ES/SR 00-017 | Main Pass Area, Blocks 99, Lease OCS-G 6807, 15 miles east of Plaquemines Parish, Louisiana | 03/10/00
NCX Company, Inc., Structure Removal Activity, SEA No. ES/SR No. 00-018 | Chandeleur Area, Block 21, Lease OCS-G 13040, 16 miles east of St. Bernard Parish, Louisiana | 03/29/00
Aviara Energy Corporation, Structure Removal Activity, SEA No. ES/SR No. 00-019 | West Cameron Area, Block 531, Lease OCS-G 2223, 87 miles south of Cameron Parish, Louisiana | 03/28/00
Forest Oil Corporation, Structure Removal Activity, SEA Nos. ES/SR Nos. 00-020 through 00-23 | Eugene Island Area, Block 292, Lease OCS-G 0994; Vermilion Area, Blocks 101 and 102, Leases OCS-G 10658 and OCS-G 3393; 224 miles south of St. Mary Parish, Louisiana and 90 to 95 miles south of Vermilion Parish, Louisiana | 04/13/00
EOG Resources, Inc., Structure Removal Activity, SEA No. ES/SR 00-024 | West Cameron Area. Block 491, Lease OCS-G 9425, 87 miles south of Cameron Parish, Louisiana | 03/30/00
PennzEnergy Exploration and Ship Production, L.L.C., Structure Removal Activity, SEA No. ES/SR 00-025 | Shoal Area, Block 154, Lease OCS-G 0420, 31 miles south of Terrebonne, Parish, Louisiana | 04/03/00
Texaco Inc., Structure Removal Actiovity, SEA No. ES/SR 00-026 | Vermilion Area, Block 30, Lease OCS-G 4785, 6 miles south of Vermilion Parish, Louisiana | 04/03/00
Burlington Resources Offshore Inc., Structure Removal Activity, SEA Nos. ES/SR 00-27 through 00-31 | Eugene Island Area, Block 159, Lease OCS-G 4449; Vermilion Area, Blocks 226 and 237, Leases OCS-G 5195 and 6677; West Cameron Area, Block 605 Lease OCS-G 2231; 37 to 110 miles off the Louisiana coast | 04/06/00
Houston Exploration Company, Structure Removal Activity, SEA No. ES/SR No. 00-032 | Matagorda Island Area, Block 650, Lease OCS-G 8998, 23 miles southeast of Calhoun County, Texas | 04/05/00
Union Pacific Resources Company, Structure Removal Activity, SEA Nos. ES/SR 00-033 and 00-034 | Ship Shoal Area, Block 191, Lease OCS-G 5555; Vermilion Area, Block 216, Lease OCS-G 13885; 32 to 58 miles off the Louisiana coast | 04/07/00
Forcenergy Inc., Structure Removal Activity, SEA Nos. ES/SR 00-035 through 00-037 | East Cameron Area; Blocks 297, 282, and 283; Leases OCS-G 7663, 7661, and 7660; 93 to 98 miles offshore the Louisiana coast | 04/11/00
Forcenergy Inc., Structure Removal Activity, SEA Nos. ES/SR 00-039 and 00-040 | West Cameron Area, Block 212, Lease OCS-G 4758, 38 miles south of Cameron Parish, Louisiana | 04/11/00
Chevron U.S.A. Inc., Structure Removal Activity, SEA No. ES/SR 00-041 | West Delta Area, Block 29, Lease OCS-G 0385, 7 miles south of Plaquemines Parish, Louisiana | 04/06/00
Apache Corporation, Structure Removal Activity, SEA No. ES/SR 00-042 | Vermilion Area, Block 257, Lease OCS-G 8671, 70 miles south of Vermilion Parish, Louisiana | 04/14/00

Persons interested in reviewing environmental documents for the proposals listed above or obtaining information about EA’s and FONSI's prepared for activities on the Gulf of Mexico OCS are encouraged to contact the MMS office in the Gulf of Mexico OCS Region.

FOR FURTHER INFORMATION: Public Information Unit, Information Services Section, Gulf of Mexico OCS Region, Minerals Management Service, 1201 Elmwood Park Boulevard, New Orleans, Louisiana 70123-2394, Telephone (504) 736-2519.

SUPPLEMENTARY INFORMATION: The MMS prepares EA's and FONSI's for proposals which relate to exploration for and the development/production of oil and gas resources on the Gulf of Mexico OCS. The EA's examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where the MMS finds that approval will not result in significant effects on the quality of the human environment. The FONSI briefly presents the basis for that finding and includes a summary or copy of the EA.

This notice constitutes the public notice of availability of environmental documents required under the NEPA Regulations.

Dated: April 25, 2000.
Chris C. Oynes,
Regional Director, Gulf of Mexico OCS Region.

[FR Doc. 00-10879 Filed 5-1-00; 8:45 am]

BILLING CODE 4310-MR-U